DEPARTMENT OF AGRICULTURE

Cooperative State Research, Education, and Extension Service

7 CFR Part 3430

RIN 0524-AA60

Competitive and Noncompetitive Non-Formula Federal Assistance Programs—Specific Administrative Provisions for the New Era Rural Technology Competitive Grants Program

AGENCY: Cooperative State Research, Education, and Extension Service, USDA.

ACTION: Interim rule and request for comments.

SUMMARY: The Cooperative State Research, Education, and Extension Service (CSREES) is publishing a set of specific administrative requirements for the New Era Rural Technology Competitive Grants Program (RTP) to supplement the Competitive and Noncompetitive Non-formula Federal Assistance Programs—General Award Administrative Provisions for this program.

DATES: This interim rule is effective on September 4, 2009. The Agency must receive comments on or before January 4, 2010.

ADDRESSES: You may submit comments, identified by RIN 0524-AA60, by any of the following methods:

Federal eRulemaking Portal: http://www.regulations.gov. Follow the instructions for submitting comments.

E-mail: RFP-OEP@csrees.usda.gov. Include Regulatory Information Number (RIN) 0524-AA60 in the subject line of the message.

Fax: 202-401-7752.

Mail: Paper, disk or CD-ROM submissions should be submitted to Cooperative State Research, Education, and Extension Service; U.S. Department of Agriculture; STOP 2299; 1400 Independence Avenue, SW.; Washington, DC 20250-2299.

Hand Delivery/Courier: Cooperative State Research, Education, and Extension Service; U.S. Department of Agriculture; Room 2258, Waterfront Centre; 800 9th Street, SW.; Washington, DC 20024.

Instructions: All submissions received must include the agency name and the RIN for this rulemaking. All comments received will be posted without change to http://www.regulations.gov, including any personal information provided.

FOR FURTHER INFORMATION CONTACT: Greg Smith, National Program Leader, Higher Education Programs, Science and Education Resources Development; Voice: 202-720-2067; E-mail: gsmith@csrees.usda.gov.

SUPPLEMENTARY INFORMATION:

I. Background and Summary

Authority

Section 1405 of the National Agricultural Research, Extension, and Teaching Policy Act (NARETPA) of 1997, as amended (7 U.S.C. 3121) designates the U.S. Department of Agriculture (USDA) as the lead Federal agency for agriculture research, extension and teaching in the food and agricultural sciences. Section 1473E of NARETPA (7 U.S.C. 3319e), as amended, requires the establishment of a program to be known as the New Era Rural Technology Competitive Grants Program (RTP), which CSREES administers.

In carrying out the program, the Secretary is authorized to make competitive grants to support the fields of (i) bioenergy, (ii) pulp and paper manufacturing, and (iii) agriculture-based renewable energy resources, in order to help ensure workforce opportunities critical to rural communities. RTP will make grants available to community college(s) and/or advanced technology center(s), located in rural areas, for technology development, applied research, and/or training.

For fiscal year (FY) 2009, $750,000 has been made available for the RTP, including administrative costs.

Organization of 7 CFR Part 3430

A primary function of CSREES is the fair, effective, and efficient administration of Federal assistance programs implementing agricultural research, education, and extension programs. As noted above, CSREES has been delegated the authority to administer this program and will be issuing Federal assistance awards for funding made available for this program; and thus, awards made under this authority will be subject to the Agency's assistance regulations at 7 CFR part 3430, Competitive and Noncompetitive Non-formula Federal Assistance Programs—General Award Administrative Provisions. The Agency's development and publication of these regulations for its non-formula Federal assistance programs serve to enhance its accountability and to standardize procedures across the Federal assistance programs it administers while providing transparency to the public. CSREES published 7 CFR part 3430 with subparts A through F as an interim rule on August 1, 2008 [73 FR 44897-44909], and adopted as a final rule September 4, 2009. These regulations apply to all Federal assistance programs administered by CSREES except for the formula grant programs identified in 7 CFR 3430.1(f), the Small Business Innovation Research programs with implementing regulations at 7 CFR part 3403, and the Veterinary Medicine Loan Repayment Program (VMLRP) authorized under section 1415A of the National Agricultural Research, Extension, and Teaching Policy Act of 1977 (NARETPA).

CSREES organized the regulation as follows: Subparts A through E provide administrative provisions for all competitive and noncompetitive non-formula Federal assistance awards. Subparts F and thereafter apply to specific CSREES programs.

CSREES is, to the extent practical, using the following subpart template for each program authority: (1) Applicability of regulations, (2) purpose, (3) definitions (those in addition to or different from § 3430.2), (4) eligibility, (5) project types and priorities, (6) funding restrictions (including indirect costs), and (7) matching requirements. Subparts F and thereafter contain the above seven components in this order. Additional sections may be added for a specific program if there are additional requirements or a need for additional rules for the program (e.g., additional reporting requirements). Through this rulemaking, CSREES is adding subpart M for the administrative provisions that are specific to the RTP.

Timeline for Implementing Regulations

CSREES is publishing this rule as an interim rule with a 120-day comment period and anticipates publishing a final rule by March 31, 2010. However, in the interim, these regulations apply to the RTP.

II. Administrative Requirements for the Proposed Rulemaking

Executive Order 12866

This action has been determined to be not significant for purposes of Executive Order 12866, and therefore, has not been reviewed by the Office of Management and Budget (OMB). This interim rule will not create a serious inconsistency or otherwise interfere with an action taken or planned by another agency; nor will it materially alter the budgetary impact of entitlements, grants, user fees, or loan programs; nor will it have an annual effect on the economy of $100 million or more; nor will it adversely affect the economy, a sector of the economy, productivity, competition, jobs, the environment, public health or safety, or State, local or Tribal governments or communities in a material way. Furthermore, it does not raise a novel legal or policy issue arising out of legal mandates, the President's priorities or principles set forth in the Executive Order.

Regulatory Flexibility Act of 1980

This interim rule has been reviewed in accordance with The Regulatory Flexibility Act of 1980, as amended by the Small Business Regulatory Enforcement Fairness Act of 1996, 5 U.S.C. 601-612. The Department concluded that the rule will not have a significant economic impact on a substantial number of small entities. The rule does not involve regulatory and informational requirements regarding businesses, organizations, and governmental jurisdictions subject to regulation.

Paperwork Reduction Act (PRA)

The Department certifies that this interim rule has been assessed in accordance with the requirements of the Paperwork Reduction Act, 44 U.S.C. 3501 et seq. (PRA). The Department concludes that this interim rule does not impose any new information requirements; however, the burden estimates will increase for existing approved information collections associated with this rule due to additional applicants. These estimates will be provided to OMB. In addition to the SF-424 form families (i.e., Research and Related and Mandatory), SF-272, Federal Cash Transactions Report, SF-269, Financial Status Report, and SF-425, Federal Financial Report; CSREES has three currently approved OMB information collections associated with this rulemaking: OMB Information Collection No. 0524-0042, CSREES Current Research Information System (CRIS); No. 0524-0041, CSREES Application Review Process; and No. 0524-0026, Assurance of Compliance with the Department of Agriculture Regulations Assuring Civil Rights Compliance and Organizational Information.

Catalog of Federal Domestic Assistance

This interim regulation applies to the Federal assistance program administered by CSREES under the Catalog of Federal Domestic Assistance (CFDA) No.10.314, New Era Rural Technology Competitive Grants Program.

Unfunded Mandates Reform Act of 1995 and Executive Order 13132

The Department has reviewed this interim rule in accordance with the requirements of Executive Order No. 13132 and the Unfunded Mandates Reform Act of 1995, 2 U.S.C. 1501 et seq., and has found no potential or substantial direct effects on the States, on the relationship between the national government and the States, or on the distribution of power and responsibilities among the various levels of government. As there is no Federal mandate contained herein that could result in increased expenditures by State, local, or Tribal governments, or by the private sector, the Department has not prepared a budgetary impact statement.

Executive Order 13175: Consultation and Coordination With Indian Tribal Governments

The Department has reviewed this interim rule in accordance with Executive Order 13175, and has determined that it does not have “Tribal implications.” The interim rule does not “have substantial direct effects on one or more Indian Tribes, on the relationship between the Federal Government and Indian Tribes, or on the distribution of power and responsibilities between the Federal Government and Indian Tribes.”

Clarity of This Regulation

Executive Order 12866 and the President's Memorandum of June 1, 1998, require each agency to write all rules in plain language. The Department invites comments on how to make this interim rule easier to understand.

List of Subjects in 7 CFR Part 3430

Administrative practice and procedure, Agricultural research, Education, Extension, Federal assistance.

Accordingly, Title 7 of the Code of Federal Regulations is amended as set forth below:

PART 3430—COMPETITIVE AND NONCOMPETITIVE NON-FORMULA FEDERAL ASSISTANCE PROGRAMS—GENERAL AWARD ADMINISTRATIVE PROVSIONS.

1. The authority for part 3430 continues to read as follows:

Authority: 7 U.S.C. 3316; Pub. L. 106-107 (31 U.S.C. 6101 note).

2. Add a new subpart M, to read as follows:

Subpart M—New Era Rural Technology Competitive Grants Program
Sec.
3430.900 Applicability of regulations.
3430.901 Purpose.
3430.902 Definitions.
3430.903 Eligibility.
3430.904 Project types and priorities.
3430.905 Funding restrictions.
3430.906 Matching requirements.
3430.907 Stakeholder input.
3430.908 Review criteria.
3430.909 Other considerations.

Subpart M—New Era Rural Technology Competitive Grants Program

§ 3430.900 Applicability of regulations.

The regulations in this subpart apply to the program authorized under section 1473E of the National Agricultural Research, Extension, and Teaching Policy Act of 1977 (7 U.S.C. 3319e), as amended.

§ 3430.901 Purpose.

The purpose of this program is to make grants available for technology development, applied research, and training, with a focus on rural communities, to aid in the development of workforces for bioenergy, pulp and paper manufacturing, and agriculture-based renewable energy workforce.

§ 3430.902 Definitions.

The definitions applicable to the program under this subpart include:

Advanced Technological Center refers to an institution that provides students with technology-based education and training, preparing them to work as technicians or at the semi-professional level, and aiding in the development of an agriculture-based renewable energy workforce. For this program, such Centers must be located within a rural area.

Bioenergy means biomass used in the production of energy (electricity; liquid, solid, and gaseous fuels; and heat).

Biomass means any organic matter that is available on a renewable or recurring basis, including agricultural crops and trees, wood and wood wastes and residues, plants (including aquatic plants), grasses, residues, fibers, and animal wastes, municipal wastes, and other waste materials.

Community College means

(1) An institution of higher education that:

(i) Admits as regular students persons who are beyond the age of compulsory school attendance in the State in which the institution is located and who have the ability to benefit from the training offered by the institution;

(ii) Does not provide an educational program for which the institution awards a bachelor's degree (or an equivalent degree); and

(iii) (A) Provides an educational program of not less than 2 years in duration that is acceptable for full credit toward such a degree; or

(B) Offers a 2-year program in engineering, mathematics, or the physical or biological sciences, designed to prepare a student to work as a technician or at the semi-professional level in engineering, scientific, or other technological fields requiring the understanding and application of basic engineering, scientific, or mathematical principles of knowledge (20 U.S.C. 1101a(a)(6)).

(2) For this grants program, such Community Colleges must be located within a rural area.

Conference/Planning Grants means the limited number of RTP grants that will fund strategic planning meetings necessary to establish and organize proposed technology development, applied research and/or training projects.

Eligible institution/organization means a community college, or an advanced technological center, that meets eligibility criteria of this program, and is located in a rural area.

Eligible participant means an individual who is a citizen or non-citizen national of the United States, as defined in 7 CFR 3430.2, or lawful permanent resident of the United States.

Fiscal agent means a third party designated by an authorized representative of an eligible institution/organization which would receive and assume financial stewardship of Federal grant funds and perform other activities as specified in the agreement between it and the eligible institution/organization.

Joint project proposal means

(1) An application for a project:

(i) Which will involve the applicant institution/organization working in cooperation with one or more other entities not legally affiliated with the applicant institution/organization, including other schools, colleges, universities, community colleges, units of State government, private sector organizations, or a consortium of institutions; and

(ii) Where the applicant institution/organization and each cooperating entity will assume a significant role in the conduct of the proposed project.

(2) To demonstrate a substantial involvement with the project, the applicant institution/organization submitting a joint project proposal must retain at least 30 percent but not more than 70 percent of the awarded funds, and no cooperating entity may receive less than 10 percent of awarded funds. Only the applicant institution/organization must meet the definition of an eligible institution/organization as specified in this RFA; other entities participating in a joint project proposal are not required to meet the definition of an eligible institution/organization.

Outcomes means specific, measurable project results and benefits that, when assessed and reported, indicate the project's plan of operation has been achieved.

Plan of Operation means a detailed, step-by-step description of how the applicant intends to accomplish the project's outcomes. At a minimum, the plan should include a timetable indicating how outcomes are achieved, a description of resources to be used or acquired, and the responsibilities expected of all project personnel.

Regular project proposal means an application for a project:

(1) Where the applicant institution/organization will be the sole entity involved in the execution of the project; or

(2) Which will involve the applicant institution/organization and one or more other entities, but where the involvement of the other entity(ies) does not meet the requirements for a joint proposal as defined in this section.

Rural Area means any area other than a city or town that has a population of 50,000 inhabitants and the urbanized area contiguous and adjacent to such a city or town.

Technology Development means the practical application of knowledge to address specific State, regional, or community opportunities in the bioenergy, pulp and paper manufacturing, or agriculture-based renewable energy occupations. Note: In general, technology is more than the development of a single product, but is instead a system of related products, procedures and services to ensure a systems approach to address a specific issue.

Training means the planned and systematic acquisition of practical knowledge, skills or competencies required for a trade, occupation or profession delivered by formal classroom instruction, laboratory instruction, or practicum experience.

§ 3430.903 Eligibility.

Applications may be submitted by either:

(a) Public or private nonprofit community colleges, or

(b) Advanced technological centers, either of which must:

(1) Be located in a rural area (see definition in § 3430.902);

(2) Have been in existence as of June 18, 2008;

(3) Participate in agricultural or bioenergy research and applied research;

(4) Have a proven record of development and implementation of programs to meet the needs of students, educators, and business and industry to supply the agriculture-based, renewable energy or pulp and paper manufacturing fields with certified technicians, as determined by the Secretary; and

(5) Have the ability to leverage existing partnerships and occupational outreach and training programs for secondary schools, 4-year institutions, and relevant nonprofit organizations.

§ 3430.904 Project types and priorities.

For each RFA, CSREES may develop and include the appropriate project types and focus areas based on the critical needs identified through stakeholder input and deemed appropriate by CSREES.

(a) In addition, priority in funding shall be given to eligible entities working in partnerships to:

(1) Improve information-sharing capacity;

(2) Maximize the ability to meet the requirements of the RFA; and

(3) To address the following two RTP goals:

(i) To increase the number of students encouraged to pursue and complete a 2-year postsecondary degree, or a certificate of completion, within an occupational focus of this grant program; and

(ii) To assist rural communities by helping students achieve their career goals to develop a viable workforce for bioenergy, pulp and paper manufacturing, or agriculture-based renewable energy.

(b) Applicants may submit applications for one of the three project types:

(1) Regular project proposal (the applicant executes the project without the requirement of sharing grant funds with other project partners);

(2) Joint project proposal (the applicant executes the project with assistance from at least one additional partner and must share grant funds with the additional partner(s)); and

(3) Conference/planning grant to facilitate strategic planning session(s).

§ 3430.905 Funding restrictions.

(a) Prohibition against construction. Grant funds awarded under this authority may not be used for the renovation or refurbishment of research, education, or extension space; the purchase or installation of fixed equipment in such space; or the planning, repair, rehabilitation, acquisition, or construction of buildings or facilities.

(b) Prohibition on tuition remission. Tuition remission (e.g., scholarships, fellowships) is not allowed.

(c) Indirect costs. Subject to § 3430.54, indirect costs are allowable with the exception of indirect costs for Conference/Planning grants, which are not allowed.

§ 3430.906 Matching requirements.

There are no matching requirements for grants under this subpart.

§ 3430.907 Stakeholder input.

CSREES shall seek and obtain stakeholder input through a variety of forums (e.g., public meetings, requests for input and/or Web site), as well as through a notice in the Federal Register, from the following entities:

(a) Community college(s).

(b) Advanced technological center(s), located in rural area, for technology development, applied research, and/or training.

§ 3430.908 Review criteria.

Evaluation criteria. CSREES shall evaluate project proposals according to the following factors:

(a) Potential for Advancing Quality of Technology Development, Applied Research, and/or Training/Significance of the Program.

(b) Proposed Approach and Cooperative Linkages.

(c) Institution Organization Capability and Capacity Building.

(d) Key Personnel.

(e) Budget and Cost-Effectiveness.

§ 3430.909 Other considerations.

(a) Amount of grants. An applicant for a regular project proposal (single institution/organization) under this subpart may request up to $125,000 (total project, not per year). An applicant for a joint project proposal (applicant plus one or more partners) under this subpart may request up to $300,000 (total project, not per year). A conference/planning grant applicant may request up to $10,000 (total project/not per year).

(b) Duration of grants. The term of a grant for a standard RTP project under this subpart shall not exceed 5 years. No-cost extensions of time beyond the maximum award terms will not be considered or granted.

Done in Washington, DC, this 28th day of August 2009.
Colien Hefferan,
Administrator, Cooperative State Research, Education, and Extension Service.

[FR Doc. E9-21258 Filed 9-3-09; 8:45 am]

BILLING CODE 3410-22-P